DEPARTMENT OF COMMERCE

National Oceanic and Atmospheric Administration

RIN: 0648-XE69

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Committee in January, 2008 to consider actions affecting New England fisheries in the exclusive economic zone (EEZ). Recommendations from this group will be brought to the full Council for formal consideration and action, if appropriate.

DATES: This meeting will be held on Friday, January 25, 2008, at 8:30 a.m.

ADDRESSES: This meeting will be held at the Sheraton Ferncroft, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Council initiated a new amendment to the Scallop Fishery Management Plan ini November (2007) (Amendment 15). The Council identified a number of issues to be considered including: measures to comply with new Magnuson-Stevens Fishery Conservation and Management Act requirements such as annual catch limits (ACLs) and accountability measures (AMs); rationalization of the limited access scallop fishery; consideration of a mechanism for sectors in the limited access scallop fishery; and re-consideration of the current scallop overfishing definition. The committee will review and develop a draft scoping document for Amendment 15 for the Council to consider at the February 2008 Council meeting. Other business will be discussed if time allows.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 27, 2007.
Tracey L. Thompson,
Acting Director, Office of Sustainable Fisheries, National Marine Fisheries Service.

[FR Doc. E7-25472 Filed 12-31-07; 8:45 am]

BILLING CODE 3510-22-S